DEPARTMENT OF THE INTERIOR

Bureau of Land Management

[LLCAC069 L1711.0000 AL.0000 025B]

Notice of Intent To Solicit Nominations, Carrizo Plain National Monument Advisory Council, California

AGENCY: Bureau of Land Management, Interior.

ACTION: Notice of call for nominations.

SUMMARY: The Bureau of Land Management (BLM) is soliciting nominations from the public to fill positions on the Carrizo Plain National Monument Advisory Committee (MAC). MAC members provide advice and recommendations to the BLM on the management of public lands in the Carrizo Plain National Monument.

ADDRESSES: Nominations should be sent to the Monument Manager, Bureau of Land Management, Bakersfield Field Office, 3801 Pegasus Drive, Bakersfield, California 93308.

FOR FURTHER INFORMATION CONTACT: Johna Hurl, Monument Manager, Bakersfield Field Office, 3801 Pegasus Drive, Bakersfield, California 93308, (661) 391-6093, Johna_Hurl@ca.blm.gov.

SUPPLEMENTARY INFORMATION: The MAC provides representative citizen counsel and advice to the Secretary of the Interior through the BLM with respect to the revision and implementation of the comprehensive plan for the Carrizo Plain National Monument.

The MAC consists of nine members:

(1) A member of, or nominated by, the San Luis Obispo Board of Supervisors;

(2) A member of, or nominated by, the Kern County Board of Supervisors;

(3) A member of, or nominated by, the Carrizo Native American Advisory Council;

(4) A member of, or nominated by, the Central California Resource Advisory Council;

(5) A member representing individuals or companies authorized to graze livestock within the Monument; and

(6) Four members with recognized backgrounds reflecting:

(a) The purposes for which the Monument was established; and

(b) The interests of other stakeholders, including the general public, who are affected by or interested in the planning and management of the Monument.

Terms of three present MAC members (two public-at-large and one San Luis Obispo County Board of Supervisors) expire on August 25, 2010. Individuals may nominate themselves or others. Nominees must be residents of the counties or neighboring county in which the MAC has jurisdiction. The BLM will evaluate nominees based on their education, training, and experience and their knowledge of the geographical resource.

The Obama Administration prohibits individuals who are currently federally registered lobbyists from serving on all Federal Advisory Committee Act (FACA) and non-FACA boards, committees or councils.

The following must accompany nominations received in this call for nominations:

• Letters of reference from represented interests or organizations;

• A completed background information nomination form; and

• Any other information that speaks to the nominee's qualifications.

Nominations will be accepted for a 45-day period beginning the date this notice is published.

Authority: FACA, 5 U.S.C. App. 2 and the Federal Land and Policy Management Act of 1976, 43 U.S.C. 1701 et seq.

Timothy Z. Smith,
Field Manager, Bakersfield Field Office.

[FR Doc. 2010-10984 Filed 5-7-10; 8:45 am]

BILLING CODE 4310-40-P